DEPARTMENT OF TRANSPORTATION

Federal Aviation Administration

14 CFR Part 39

[Docket No. 2000-NM-228-AD; Amendment 39-12311; AD 2001-14-01]

RIN 2120-AA64

Airworthiness Directives; Boeing Model 757-200 Series Airplanes Modified by Supplemental Type Certificate SA1727GL

AGENCY: Federal Aviation Administration, DOT.

ACTION: Final rule.

SUMMARY: This amendment adopts a new airworthiness directive (AD), applicable to all Boeing Model 757-200 series airplanes modified by Supplemental Type Certificate (STC) SA1727GL, that requires deactivation of the air-to-ground telephone system approved by that STC. This action is necessary to prevent the inability of the flight crew to remove power from the telephone system when necessary. Inability to remove power from the telephone system during a non-normal or emergency situation could result in inability to control smoke or fumes in the airplane flight deck or cabin. This action is intended to address the identified unsafe condition.

DATES: Effective August 15, 2001.

ADDRESSES: The information referenced in this AD may be examined at the Federal Aviation Administration (FAA), Transport Airplane Directorate, Rules Docket, 1601 Lind Avenue, SW., Renton, Washington; or at the FAA, Chicago Aircraft Certification Office, 2300 East Devon, Des Plaines, Illinois.

FOR FURTHER INFORMATION CONTACT: Wess Rouse, Aerospace Engineer, Airframe and Propulsion Branch, ACE-117C, Chicago Aircraft Certification Office, 2300 East Devon, Des Plaines, Illinois 60018; telephone (847) 294-8113; fax (847) 294-7380.

SUPPLEMENTARY INFORMATION: A proposal to amend part 39 of the Federal Aviation Regulations (14 CFR part 39) to include an airworthiness directive (AD) that is applicable to all Boeing Model 757-200 series airplanes modified by Supplemental Type Certificate (STC) SA1727GL was published in the Federal Register on March 2, 2001 (66 FR 13183). That action proposed to require deactivation of the air-to-ground telephone system approved by that STC.

Comments

Interested persons have been afforded an opportunity to participate in the making of this amendment. No comments were submitted in response to the proposal or the FAA's determination of the cost to the public.

Explanation of Change to Final Rule

Paragraph (b) of the proposed rule states that “no person shall install an [in-flight entertainment system (IFE)] system in accordance with STC SA1727GL * * *” The FAA finds that, where we used the generic term “IFE system,” we should have used the more specific term “air-to-ground telephone system.” Therefore, we have revised paragraph (b) of this final rule for clarity.

Conclusion

After careful review of the available data, the FAA has determined that air safety and the public interest require the adoption of the rule with the change previously described. The FAA has determined that this change will neither increase the economic burden on any operator nor increase the scope of the AD.

Cost Impact

Because the STC holder is no longer in business, the FAA is unable to determine how many U.S.-registered Boeing Model 757-200 series airplanes modified by STC SA1727GL will be affected by this AD.

For an airplane subject to this AD, it will take approximately 3 work hours per airplane to accomplish the required actions, at an average labor rate of $60 per work hour. Required parts will cost approximately $35 per airplane. Based on these figures, the cost impact of this AD is estimated to be $215 per affected airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-14-01 Boeing: Amendment 39-12311. Docket 2000-NM-228-AD.

Applicability: Model 757-200 series airplanes modified by Supplemental Type Certificate (STC) SA1727GL, certificated in any category.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent the inability of the flight crew to remove power from the telephone system when necessary, accomplish the following:

Deactivation

(a) Within 18 months after the effective date of this AD, deactivate the In-Flight Phone Corporation air-to-ground telephone system approved by STC SA1727GL. Accomplish the deactivation in accordance with the procedures in paragraphs (a)(1), (a)(2), (a)(3), (a)(4), and (a)(5) of this AD.

(1) Remove the circuit breakers listed in the following table:

Number | Label | Location
CB9012 | ATG Phone Bus | P11-2 Overhead Cockpit.
CB9013 | CSU | P37 Right Miscellaneous Electrical Equipment Panel.
CB9014 | RFU | P37 Right Miscellaneous Electrical Equipment Panel.
C340 | C340 | P70 Miscellaneous Electrical Equipment Panel.
C341 | C341 | P70 Miscellaneous Electrical Equipment Panel.

(2) Remove wire between circuit breaker C340 and C334 bus connection in P70 Miscellaneous Electrical Equipment Panel.

(3) Remove wire between circuit breaker C340 and C1292 bus connection in P70 Miscellaneous Electrical Equipment Panel.

(4) Remove wire between circuit breaker CB9012 and C560 in P11-2 Overhead Cockpit panel.

(5) Cap and stow any remaining wires associated with the circuit breakers listed in the table above.

Spares

(b) As of the effective date of this AD, no person shall install an air-to-ground telephone system in accordance with STC SA1727GL, on any airplane.

Alternative Methods of Compliance

(c) An alternative method of compliance or adjustment of the compliance time that provides an acceptable level of safety may be used if approved by the Manager, Chicago Aircraft Certification Office (ACO), FAA. Operators shall submit their requests through an appropriate FAA Principal Maintenance Inspector, who may add comments and then send it to the Manager, Chicago ACO.

Note 2: Information concerning the existence of approved alternative methods of compliance with this AD, if any, may be obtained from the Chicago ACO.

Special Flight Permits

(d) Special flight permits may be issued in accordance with §§ 21.197 and 21.199 of the Federal Aviation Regulations (14 CFR 21.197 and 21.199) to operate the airplane to a location where the requirements of this AD can be accomplished.

Effective Date

(e) This amendment becomes effective on August 15, 2001.

Issued in Renton, Washington on June 29, 2001.
Vi L. Lipski,
Manager, Transport Airplane Directorate, Aircraft Certification Service.

[FR Doc. 01-17155 Filed 7-10-01; 8:45 am]

BILLING CODE 4910-13-P